DEPARTMENT OF AGRICULTURE

Forest Service

Notice of Mineral County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393, as amended by H.R. 1424 January 3, 2008) the Lolo National Forest's Mineral County Resource Advisory Committee will meet on April 6, May 4 and May 12, 2010 at 6 p.m. until 8:30 p.m. in Superior, Montana for a business meeting. The meeting is open to the public.

DATES: April 6, 2010, May 4, 2010 and May 12, 2010.

ADDRESSES: The meetings will be held at the Superior Ranger District Office, 209 W. Riverside Ave. Superior, MT 59872.

FOR FURTHER INFORMATION CONTACT: Sharon Sweeney, Designated Federal Official (DFO), District Ranger, Superior District, Lob National Forest at (406) 822-4233.

SUPPLEMENTARY INFORMATION: Agenda topics for these meeting include the presentation of new project proposals and selection of proposals. If the meeting location is changed, notice will be posted in local newspapers, including the Mineral Independent.

Dated: March 3, 2010.
Sharon Sweeney,
Designated Federal Official.

[FR Doc. 2010-6034 Filed 3-18-10; 8:45 am]

BILLING CODE 3410-11-M